COMMITTEE FOR PURCHASE FROM PEOPLE WHO ARE BLIND OR SEVERELY DISABLED

Procurement List, Proposed Addition; Correction

In the correction document appearing on page 10664, FR Doc. 02-5612, in the issue of March 8, 2002, in the second column the Committee published a notice of proposed addition to the Procurement List of, among other things, Janitorial/Custodial, Ronald Reagan Building, International Trade Center, At the Federal Tenant Spaces Only, Washington, DC. This notice is amended by deleting the reference “International Trade Center”. The proposed addition now reads “Janitorial/Custodial, Ronald Reagan Building, at the Federal tenant spaces only, Washington, DC”.

Sheryl D. Kennerly,
Director, Information Management.

[FR Doc. 02-6285 Filed 3-14-02; 8:45 am]

BILLING CODE 6353-01-P